DEPARTMENT OF THE INTERIOR

National Park Service

[N6420; NPS-WASO-NAGPRA-NPS0040826; PPWOCRADN0-PCU00RP14.R50000]

Notice of Inventory Completion: David A. Fredrickson Archaeological Collections Facility at Sonoma State University, Rohnert Park, CA

AGENCY: National Park Service, Interior.

ACTION: Notice.

SUMMARY: In accordance with the Native American Graves Protection and Repatriation Act (NAGPRA), the Sonoma State University has completed an inventory of associated funerary objects and has determined that there is a cultural affiliation between the associated funerary objects and Indian Tribes or Native Hawaiian organizations in this notice.

DATES: Repatriation of the associated funerary objects in this notice may occur on or after September 15, 2025.

ADDRESSES: Send written requests for repatriation of the associated funerary objects in this notice to Elise-Alexandria Green, Sonoma State University, 1801 East Cotati Avenue, Rohnert Park, CA 94928, email elise.green@sonoma.edu.

SUPPLEMENTARY INFORMATION: This notice is published as part of the National Park Service's administrative responsibilities under NAGPRA. The determinations in this notice are the sole responsibility of the Sonoma State University, and additional information on the determinations in this notice, including the results of consultation, can be found in the inventory or related records. The National Park Service is not responsible for the determinations in this notice.

Abstract of Information Available

Based on the information available, 985 associated funerary objects have been identified.

A total of 895 associated funerary objects were removed from CA-KER-824 near McKittrick California, in Kern County. The associated funerary objects were removed from the site during archaeological survey and monitoring by the Sonoma State University Academic Foundation Inc, contracted by the Getty Oil Company of Bakersfield, California. The 895 associated funerary objects are flaked stone tools, debitage, groundstone tools, historic material, modified shell, shell beads, faunal bone, and deity shell. The cultural items have been at Sonoma State University since 1980 under the number 80-09.

In 1973, 89 associated funerary objects were donated to Sonoma State University by Ken Russel. The cultural items were removed from the Old Kern River 20 miles north of Taft in Kern County, California. The cultural items are glass and shell beads. The cultural items have been at Sonoma State University since their donation under the number 73-31.

In 1988, one associated funerary object was removed from near Buena Vista Lake in Kern County, California. No additional information on why the item was removed from its location or why it was brought to Sonoma State were located. The cultural item is a flaked stone tool. The cultural item has been at the university since under the number 88-13

Based on records concerning the associated funerary objects and the institution in which they were housed, there is no evidence of the cultural items being treated with hazardous substances.

Cultural Affiliation

Based on the information available and the results of consultation, cultural affiliation is identified clearly by information available, including oral traditional, geographical, and biological information described in this notice and Tejon Indian Tribe.

Determinations

The Sonoma State University has determined that:

• The 985 objects described in this notice are reasonably believed to have been placed intentionally with or near individual human remains at the time of death or later as part of the death rite or ceremony.

• There is a reasonable connection between the associated funerary objects described in this notice and the Tejon Indian Tribe.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the associated funerary objects in this notice to a requestor may occur on or after September 15, 2025. If competing requests for repatriation are received, the Sonoma State University must determine the most appropriate requestor prior to repatriation. Requests for joint repatriation of the associated funerary objects are considered a single request and not competing requests. The Sonoma State University is responsible for sending a copy of this notice to the Indian Tribes and Native Hawaiian organizations identified in this notice.

Authority: Native American Graves Protection and Repatriation Act, 25 U.S.C. 3003, and the implementing regulations, 43 CFR 10.10.

Dated: August 5, 2025.
Melanie O'Brien,
Manager, National NAGPRA Program.

[FR Doc. 2025-15411 Filed 8-13-25; 8:45 am]

BILLING CODE 4312-52-P